DEPARTMENT OF JUSTICE

Notice of Lodging of Modification of Consent Decree Under the Clean Water Act

Pursuant to 28 CFR 50.7, notice is hereby given that, on September 26, 2002, a proposed Stipulation modifying the Amended Consent Decree in United States v. Government of the Virgin Islands, Civil Action No. 84-104, was lodged with the United States District Court for the District of the Virgin Islands.

On May 10, 1985 and July 14, 1987, the Government of the Virgin Islands (“Virgin Islands”) applied to the Environmental Protection Agency (“EPA”), pursuant to section 301(h) of the Clean Water Act, 33 U.S.C. 1311(h), for a waiver of secondary treatment requirements at the St. Croix Wastewater Treatment Plant (“St. Croix WWTP”) and the Charlotte Amalie Wastewater Treatment Plant (“Charlotte Amalie WWTP”), respectively. On January 19, 1996, the United States District court for the District of the Virgin Islands approved an Amended Consent Decree in an action that had been filed by the United States against the Virgin Islands, on March 21, 1984, alleging violations of certain provisions of the Clean Water Act at eight of its wastewater treatment plants. The Amended Decree provided, inter alia, that if EPA denied either of the 301(h) waiver applications, the Virgin Islands would be required to achieve secondary treatment at the facility within three years of the effective date of EPA's final denial of the application.

On June 7, 2001, before EPA had taken action with respect to the 301(h) applications, the Virgin Islands withdrew the applications.

The United States, pursuant to this Stipulation, agrees to give the Virgin Islands additional time to complete the construction of new or upgraded facilities that will meet the secondary treatment requirements of the Clean Water Act or any more stringent requirements that may be set forth in the Territorial Pollutant Discharge Elimination System permits for the St. Croix WWTP and the Charlotte Amalie WWTP. Pursuant to the Stipulation, the Virgin Islands has until November 30, 2005 to complete construction and place into operation new or upgraded treatment facilities with respect to the St. Croix WWTP and until November 30, 2006 to complete construction and place into operation new or upgraded treatment facilities with respect to the Charlotte Amalie WWTP. Pursuant to the Stipulation, the Virgin Islands agrees to use the services of a private contractor to design, construct, and operate (for at least 20 years) the new or upgraded facilities. The Virgin Islands has also agreed to deposit into a separate account, on an annual basis, the funds needed to design, construct, and operate (for two years) the facilities during the succeeding twelve-month period.

The Department of Justice will receive for a period of thirty (30) days from the date of this publication comments relating to the Stipulation. Comments should be addressed to Donald G. Frankel, Trial attorney, Department of Justice, One Gateway Center, Suite 616, Newton Massachusetts 02458 and should refer to United States v. Government of the Virgin Islands, D.J. Ref. 90-5-1-1-1911A.

The Stipulation may be examined at the Office of the United States Attorney, District of the Virgin Islands, Federal Building and United States Courthouse, 550 Veterans Drive, Suite 260, Charlotte Amalie, St. Thomas Virgin Islands 00802 (contact Joycelyn Hewlett at (340) 774-5757). A copy of the Stipulation may also be obtained by mail from the Consent Decree Library, P.O. Box 7611, U.S. Department of Justice, Washington, DC 20044-7611 or by faxing a request to Tonia Fleetwood, fax no. (202) 514-0097, phone confirmation number (202) 514-1547. In requesting a copy, please enclose a check in the amount of $5 (25 cents per page reproduction cost) payable to the U.S. Treasury.

Ronald G. Gluck,
Assistant Section Chief, Environmental Enforcement Section, Environment and Natural Resources Division.

[FR Doc. 02-26502 Filed 10-17-02; 8:45 am]

BILLING CODE 4410-15-M